DEPARTMENT OF EDUCATION

Applications for New Awards; Rehabilitation Short-Term Training: Client Assistance Program

AGENCY: Office of Special Education and Rehabilitative Services, Department of Education.

ACTION: Notice.

SUMMARY: The U.S. Department of Education (Department) is issuing a notice inviting applications (NIA) for Federal fiscal year (FFY) 2021 for the Rehabilitation Short-Term Training—Client Assistance Program (CAP Training), Assistance Listing Number 84.246K. This notice relates to the approved information collection under OMB control number 1820-0018.

DATES:

Applications Available: June 23, 2021.

Deadline for Transmittal of Applications: August 9, 2021.

Date of Pre-Application Meeting: The Office of Special Education and Rehabilitative Services (OSERS) will post a PowerPoint presentation that provides general information related to the Rehabilitation Services Administration's (RSA) discretionary grant competitions and a PowerPoint presentation specifically related to this Rehabilitation Short-Term Training program competition at https://ncrtm.ed.gov/RSAGrantInfo.aspx. OSERS will conduct a pre-application meeting specific to this competition via conference call to respond to questions. Information about the pre-application meeting will be available at https://ncrtm.ed.gov/RSAGrantInfo.aspx prior to the date of the call. OSERS invites you to send questions to 84.246K@ed.gov in advance of the pre-application meeting. The teleconference information, including the 84.246K pre-application meeting summary of the questions and answers, will be available at https://ncrtm.ed.gov/RSAGrantInfo.aspx within six days after the pre-application meeting.

Deadline for Intergovernmental Review: October 6, 2021.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Felipe Lulli, U.S. Department of Education, 400 Maryland Avenue SW, Room 5051, Potomac Center Plaza, Washington, DC 20212-2800. Telephone: (202) 245-7425. Email: 84.246K@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The Rehabilitation Short-Term Training program is designed to provide short-term training and technical instruction in areas of special significance to the vocational, medical, social, and psychological rehabilitation programs, supported employment program, independent living services programs, and Client Assistance Program (CAP), including special seminars, institutes, workshops, and other short-term courses. Short-term training projects may be of regional or national scope.

Priority: This priority is from the notice of final priority (NFP) for this program published elsewhere in this issue of the Federal Register.

Absolute Priority: For FFY 2021, this is an absolute priority. Under 34 CFR 75.105(c)(3), we consider only applications that meet this absolute priority.

This priority is:

Rehabilitation Short-Term Training—Client Assistance Program (CAP Training).

This CAP Training priority is designed to provide CAP professionals the necessary knowledge, competencies, and skills to inform, assist, and advocate for clients and client-applicants regarding expanded education, training, and competitive integrated employment opportunities and other services and benefits available under the Rehabilitation Act of 1973, as amended by the Workforce Innovation and Opportunity Act of 2014 (WIOA).

Under this priority, the grantee must provide comprehensive and in-depth training and technical assistance activities that provide updated information about CAP duties and responsibilities under the Rehabilitation Act; expanded vocational rehabilitation (VR) service provisions in the Rehabilitation Act, including section 113 on pre-employment transition services and section 511 regarding limitations on use of subminimum wage; and on other education, training, and employment opportunities under WIOA, including career pathways, apprenticeships, and customized employment. The training and technical assistance must enhance CAP professionals' individual and systems advocacy competencies and their leadership, relationship-building, and outreach skills. In addition, the training and technical assistance must strengthen the institutional effectiveness of the CAPs in the individual States through strategic planning and resource management capacity-building activities. In providing the training and technical assistance, the grantee must consider the challenges and opportunities experienced by the VR program and other programs authorized under the Rehabilitation Act, as amended by WIOA, and encourage greater communication and coordination between the CAPs and those programs.

Under this priority, the Secretary funds only applications that meet the project requirements outlined below. Applicants must describe major implementation activities, timelines, and milestones for each of the following project requirements:

(a) Training and technical assistance to increase CAP professionals' knowledge, skills, and competencies in the four broad subject areas and related topics:

(1) The Rehabilitation Act, as amended by WIOA, including—

(i) CAP duties and responsibilities under section 112(a) of the Rehabilitation Act and other pertinent provisions including section 101(a)(16) regarding CAP consultation on draft policies and procedures governing the provision of VR services and section 105(b) regarding CAP membership on the State Rehabilitation Councils (SRC);

(ii) VR service provision requirements in the Rehabilitation Act and its regulations, policy guidance, and legal decisions, including those regarding section 113 on pre-employment transition services and section 511 regarding limitations on use of subminimum wage;

(iii) Requirements related to other projects, programs, and services under the Rehabilitation Act, as amended by WIOA, including the independent living programs authorized in Title VII;

(iv) Expanded training, education, and employment opportunities under WIOA, including but not limited to the provision of pre-employment transition services, apprenticeships, customized employment, career pathways, and the focus on postsecondary credential attainment, including advanced degrees;

(v) Challenges and opportunities in implementing the expanded VR service provisions and other benefits available under the Rehabilitation Act, as amended by WIOA, including consideration of Federal and State statutes, regulations, and policies that impact the delivery of VR services in the States, such as the transition services provisions of the Individuals with Disabilities Education Act;

(vi) Obstacles that individuals with disabilities—including individuals with the most significant disabilities, students and youth with disabilities, members of traditionally unserved or underserved groups, and individuals in economically disadvantaged communities—experience in accessing VR services and other services and benefits under Rehabilitation Act; and

(vii) The complementary roles of CAPs, State VR agencies, SRCs, community rehabilitation programs, WOIA core partners, and key stakeholders of the VR program and other services and programs authorized by the Rehabilitation Act, as amended by WIOA.

(2) Discrete skills related to CAP duties and responsibilities, including—

(i) Individual advocacy;

(ii) Systems advocacy;

(iii) Alternate dispute resolution; and

(iv) Leadership, relationship-building, and outreach.

(3) Strategic planning, including—

(i) Assessments of the State's program priorities, challenges, needs, and opportunities in implementing the expanded VR program provisions and other benefits and services under the Rehabilitation Act, as amended by WIOA. Strategic assessments may include targeted reviews of the Unified or Combined State Plans, monitoring reports, Annual Client Assistance Program Report (RSA-227), other State Plans and reports, and input from agency leadership and staff, SRC members, clients, applicants, and other key stakeholders;

(ii) Development of the individual CAPs' strategic goals and action plans (including their particular training or technical assistance needs), based on identified program priorities, challenges, needs, and opportunities; and

(iii) Strategic outreach and engagement with State VR agencies, SRCs, and other stakeholders associated with the programs and services authorized under the Rehabilitation Act to increase collaboration in support of improved service delivery and outcomes in the State.

(4) Resource management, including—

(i) Budgeting and financial oversight practices in support of strategic goals and objectives, consistent with Generally Accepted Accounting Practices; and

(ii) Uniform Administrative Requirements, Cost Principles, and Audit Requirements for Federal Awards, at 2 CFR part 200, pertinent to CAP and VR program operations.

(b) Comprehensive plan for the provision of training and technical assistance on the required subject areas and topics, based on a comprehensive assessment of CAP professionals' needs. The training and technical assistance plan must describe the following:

(1) Subject areas and topics, specifically, how they will be prioritized and made available in the initial year and subsequent years of the project;

(2) Training activities, consisting of both established training modules and ad hoc training responsive to emerging circumstances or trends;

(3) Technical assistance, consisting of individualized assistance on applying principles and practices from training on the required subject areas and topics, as well as consultation on options for applying existing law, regulations, and RSA-issued guidance to specific factual circumstances that arise in the course of CAP professionals' individual or systems advocacy efforts;

(4) Training and technical assistance curricula, materials, and tools, which may incorporate the resources developed by current and former RSA VR technical assistance centers and demonstration projects, available at the National Clearinghouse of Rehabilitation Training Materials;

(5) Information delivery methods, including in-person and virtual activities, communities of practice, social media, and searchable databases; and

(6) State-of-the-art communication tools and platforms, including an interactive project website, distance learning and convening technologies, and searchable databases.

The comprehensive needs assessment may comprise selective reviews, on a national basis, of RSA-227s, Unified or Combined State Plans, RSA State monitoring reports, other State Plans and reports, and input from CAP professionals and key stakeholders, including VR agency and SRC representatives.

(c) Quality control processes to ensure that training and technical assistance activities and materials are updated to reflect the statutory and regulatory changes in the Rehabilitation Act, as amended by WIOA, the RSA policy guidance updates, and future reauthorizations of the Rehabilitation Act.

(d) Coordination with and leveraging the resources of RSA's vocational rehabilitation technical assistance centers and other Federal or non-Federal programs, including the National Technical Assistance Center on Transition and the recently funded RSA technical assistance centers on Quality Employment and Quality Management in the development and delivery of CAP Training project activities, curriculum, materials, and tools.

(e) Coordination with the entity providing training and technical assistance to the Protection and Advocacy of Individual Rights program, consistent with section 509 of the Rehabilitation Act.

(f) Comprehensive evaluation plan based on performance measures established in this notice inviting applications, consistent with the Government Performance and Results Act.

CAP Training performance will be assessed based on the following considerations:

(a) Increased capacity to provide individual and systems advocacy, alternative dispute resolution, and outreach to unserved or underserved populations, as reported by the CAP professionals.

(b) Trends in pertinent CAP services, including individual and systems advocacy.

(c) Relationship between the observed CAP services trends and the training and technical assistance provided under this priority.

The performance evaluation will be based on a variety of quantitative and qualitative data sources, including, but not limited to:

(a) RSA-227;

(b) Pre- and post-training assessments;

(c) Questionnaires, surveys, and focus groups;

(d) Success stories; and

(e) Peer reviews.

The evaluation plan must include a logic model that outlines the proposed project activities, outputs, outcomes, baselines, and targets. The plan also must describe how the evaluation results will be used to promote continuous program improvement throughout the grant's period of performance.

Program Authority: 29 U.S.C. 772(a)(1).

Note: Projects will be awarded and must be operated in a manner consistent with the nondiscrimination requirements contained in the Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR parts 385 and 390. (e) The NFP.

Note: The regulations in 34 CFR part 79 apply to all applicants except federally recognized Indian Tribes.

Note: The regulations in 34 CFR part 86 apply to institutions of higher education only.

II. Award Information

Type of Award: Discretionary grant.

Estimated Available Funds: $308,000.

Maximum Award: We will not make an award exceeding $308,000 for a single budget period of 12 months.

Estimated Number of Awards: 1.

Note: The Department is not bound by any estimates in this notice.

Project Period: Up to 60 months.

III. Eligibility Information

1. Eligible Applicants: States and public or private nonprofit agencies and organizations, including Indian Tribes and institutions of higher education.

Note: If you are a nonprofit organization, under 34 CFR 75.51, you may demonstrate your nonprofit status by providing: (1) Proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: Under 34 CFR 390.40, a grantee must contribute to the cost of a project under this program in an amount satisfactory to the Secretary. The part of the costs to be borne by the grantee is determined by the Secretary at the time of the grant award. For the purposes of this competition, the grantee is required to contribute at least 10 percent of the total cost of the project under this program. Furthermore, given the importance of cost sharing funds to the long-term success of the project, eligible entities must identify appropriate non-Federal funds in the proposed budget.

b. Indirect Cost Rate Information: This program uses an unrestricted indirect cost rate. For more information regarding indirect costs or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200, subpart E, of the Uniform Guidance.

3. Subgrantees: Under 34 CFR 75.708(b) and (c) a grantee under this competition may not award subgrants to entities to directly carry out project activities described in its application. Under 34 CFR 75.708(e), a grantee may contract for supplies, equipment, and other services in accordance with 2 CFR part 200.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the CAP Training competition, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to no more than 45 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all the application narrative.

V. Application Review Information

1. Selection Criteria: The selection criteria for this competition are from 34 CFR 390.30 and 34 CFR 75.210, have a maximum score of 100 points, and are as follows:

(a) Relevance to State-Federal rehabilitation service program. (10 points)

(1) The Secretary reviews each application for information that shows that the proposed project appropriately relates to the mission of the State-Federal rehabilitation service programs.

(2) The Secretary looks for information that shows that the proposed project can be expected to improve the skills and competence of—

(i) Personnel engaged in the administration or delivery of rehabilitation services; and

(ii) Others with an interest in the delivery of rehabilitation services.

(b) Quality of the project design. (15 points)

(1) The Secretary considers the quality of the design of the proposed project.

(2) In determining the quality of the design of the proposed project, the Secretary considers the following factors:

(i) The extent to which the goals, objectives, and outcomes to be achieved by the proposed project are clearly specified and measurable.

(ii) The extent to which the design of the proposed project is appropriate to, and will successfully address, the needs of the target population or other identified needs.

(c) Quality of project services. (20 points)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the training or professional development services to be provided by the proposed project are of sufficient quality, intensity, and duration to lead to improvements in practice among the recipients of those services.

(ii) The extent to which the services to be provided by the proposed project are appropriate to the needs of the intended recipients or beneficiaries of those services.

(d) Quality of project personnel. (15 points)

(1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of key project personnel.

(ii) The qualifications, including relevant training and experience, of project consultants or subcontractors.

(e) Adequacy of resources. (10 points)

(1) The Secretary considers the adequacy of resources for the proposed project.

(2) In determining the adequacy of resources for the proposed project, the Secretary considers the following factors:

(i) The extent to which the costs are reasonable in relation to the number of persons to be served and to the anticipated results and benefits.

(ii) The adequacy of support, including facilities, equipment, supplies, and other resources, from the applicant organization or the lead applicant organization.

(f) Quality of the management plan. (15 points)

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(g) Quality of the project evaluation. (15 points)

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation will provide performance feedback and permit periodic assessment of progress toward achieving intended outcomes.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit semiannual and annual performance reports that provide the most current performance and financial expenditure information as directed by the Secretary under 34 CFR 75.118. The Secretary may also require more frequent performance reports under 34 CFR 75.720(c). For specific requirements on reporting, please go to www.ed.gov/fund/grant/apply/appforms/appforms.html.

5. Performance Measures: The Government Performance and Results Act of 1993 (GPRA) directs Federal departments and agencies to improve the effectiveness of their programs by engaging in strategic planning, setting outcomes-related goals, and measuring results against those goals.

The GPRA performance measures for this program are as follows:

(1) The number and percentage of cases closed in the VR client or applicant's favor.

(2) The number and percentage of individual cases resolved through Alternative Dispute Resolution.

(3) The percentage of individual CAP programs reporting that their systemic advocacy resulted in a change in policy or practice of an agency.

(4) The number of non-litigation systemic activities not involving individual representation that resulted in the change of one or more policies or practices of an agency.

The program performance measures for this program are as follows:

(1) The number and percentage of CAP professionals reporting increased capacity to provide individual and systems advocacy on the expanded VR service provisions and opportunities under WIOA, as a result of the training and technical assistance activities under this priority.

(2) The number and percentage of CAP professionals reporting increased capacity to reach priority unserved or underserved populations in their States, as a result of the training and technical assistance activities under this priority.

(3) The number and percentage of CAP professionals reporting increased strategic planning and resource management capabilities, as a result of the training and technical assistance activities under this priority.

The CAP Training grantee must collect the quantitative and qualitative data necessary to track and report on the GPRA and program measures, including an estimated total number of CAP professionals nationwide.

Annual project progress toward meeting the performance measures and project goals must be posted on the project website.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Test Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

David Cantrell,
Deputy Director, Office of Special Education Programs, delegated the authority to perform the functions and duties of the Assistant Secretary for the Office of Special Education and Rehabilitative Services.

[FR Doc. 2021-13190 Filed 6-17-21; 4:15 pm]

BILLING CODE 4000-01-P